DEPARTMENT OF COMMERCE

Foreign-Trade Zones Board

[S-4-2016]

Foreign-Trade Zone 287—Tunica County, Mississippi; Application for Subzone; FTZ Networks, Inc., Olive Branch, Mississippi

An application has been submitted to the Foreign-Trade Zones Board (the Board) by Tunica County, Mississippi, grantee of FTZ 287, requesting subzone status for the facility of FTZ Networks, Inc., located in Olive Branch, Mississippi. The application was submitted pursuant to the provisions of the Foreign-Trade Zones Act, as amended (19 U.S.C. 81a-81u), and the regulations of the Board (15 CFR part 400). It was formally docketed on January 19, 2016.

The proposed subzone (3.767 acres) is located at 5755 FedEx Lane, Suite 110, Olive Branch. The proposed subzone would be subject to the existing activation limit of FTZ 287. No authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is March 7, 2016. Rebuttal comments in response to material submitted during the foregoing period may be submitted during the subsequent 15-day period to March 21, 2016.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Camille Evans at Camille.Evans@trade.gov or (202) 482-2350.

Dated: January 19, 2016.
Andrew McGilvray,
Executive Secretary.

[FR Doc. 2016-01562 Filed 1-25-16; 8:45 am]

BILLING CODE 3510-DS-P